SECURITIES AND EXCHANGE COMMISSION

[Release No. 34-60651; File Nos. 10-193 and 10-194]

EDGX Exchange, Inc., and EDGA Exchange, Inc.; Notice of Filing of Applications, as Amended, for Registration as National Securities Exchanges Under Section 6 of the Securities Exchange Act of 1934

September 11, 2009.

On May 7, 2009, EDGX Exchange, Inc. (“EDGX”), and EDGA Exchange, Inc. (“EDGA,” and, together with EDGX, the “Exchanges”) submitted to the Securities and Exchange Commission (“Commission”) Form 1 applications under the Securities Exchange Act of 1934 (“Exchange Act”), seeking registration as national securities exchanges under Section 6 of the Exchange Act.¹ On July 30, 2009, the Exchanges each submitted Amendment No. 1 to their Form 1 applications. The Commission is publishing this notice to solicit comments on the Exchanges' Form 1 applications, as amended. The Commission will take these comments into consideration in making its determination about whether to grant the Exchanges' requests to be registered as national securities exchanges. The Commission will grant the registrations if it finds that the requirements of the Exchange Act and the rules and regulations thereunder with respect to the Exchanges are satisfied.²

¹ On September 11, 2009, the Commission issued an order granting EDGX and EDGA exemptive relief, subject to certain conditions, in connection with the filing of their Form 1 applications. See Securities Exchange Act Release No. 60650.

² 15 U.S.C. 78s(a).

The Exchanges' Form 1 applications, as amended, provide detailed information on how they propose to satisfy the requirements of the Exchange Act. In general, the Exchanges, which are wholly-owned subsidiaries of Direct Edge Holdings LLC, will each operate separate fully automated electronic books for orders to buy or sell securities with continuous, automated matching functions.³ Liquidity on the Exchanges will be derived from orders to buy and orders to sell submitted to the Exchanges electronically by their respective members from remote locations. Neither EDGX nor EDGA will have a trading floor, nor will they have exchange specialists or market makers. The Exchanges' Form 1 applications, as amended, are available at the Commission's Public Reference Room and http://www.sec.gov.

³ EDGX and EDGA represented that the Step-Up functionality, set forth in the Form 1 applications, is the same functionality as Enhanced Liquidity Provider (“ELP”) functionality offered by Direct Edge ECN LLC (“DECN”). EDGX and EDGA also agreed to amend the Form 1 applications to comply with any Commission rulemaking in this area. See Letter from William O'Brien, Chief Executive Officer, Direct Edge Holdings LLC, DECN, EDGX, and EDGA, to James Brigagliano, Co-Acting Director, Division of Trading and Markets, Commission, dated August 10, 2009.

Interested persons are invited to submit written data, views, and arguments concerning the Exchanges' Form 1 applications, as amended, including whether the Exchanges' applications, as amended, are consistent with the Exchange Act. Comments may be submitted by any of the following methods:

Electronic Comments

• Use the Commission's Internet comment form (http://www.sec.gov/rules/other.shtml); or

• Send an e-mail to rule-comments@sec.gov. Please include File Number(s) 10-193 (for EDGX) and 10-194 (for EDGA) on the subject line.

Paper Comments

• Send paper comments in triplicate to Elizabeth M. Murphy, Secretary, Securities and Exchange Commission, Station Place, 100 F Street, NE., Washington, DC 20549-1090.

All submissions should refer to File Number(s) 10-193 (for EDGX) and 10-194 (for EDGA). These file number(s) should be included on the subject line if e-mail is used. To help the Commission process and review your comments more efficiently, please use only one method. The Commission will post all comments on the Commission's Internet Web site (http://www.sec.gov/rules/other.shtml). Copies of the submission, all subsequent amendments, all written statements with respect to the Exchanges' Form 1 applications filed with the Commission, and all written communications relating to the application between the Commission and any person, other than those that may be withheld from the public in accordance with the provisions of 5 U.S.C. 552, will be available for inspection and copying in the Commission's Public Reference Room, 100 F Street, NE., Washington, DC 20549, on official business days between the hours of 10 a.m. and 3 p.m. All comments received will be posted without change; the Commission does not edit personal identifying information from submissions. You should submit only information that you wish to make available publicly. All submissions should refer to File Number(s) 10-193 (for EDGX) and 10-194 (for EDGA) and should be submitted on or before November 2, 2009.

By the Commission.
Elizabeth M. Murphy,
Secretary.

[FR Doc. E9-22347 Filed 9-16-09; 8:45 am]

BILLING CODE 8010-01-P